DEPARTMENT OF ENERGY

Federal Energy Regulatory Commission

Combined Notice of Filings #2

Take notice that the Commission received the following electric corporate filings:

Docket Numbers: EC17-73-000.

Applicants: Xcel Energy Services Inc., Northern States Power Company, a Wisconsin corporation.

Description: Supplement to January 30, 2017 Application pursuant to Section 203 of the Federal Power Act of Xcel Energy Services Inc., on behalf of Northern States Power, a Wisconsin corporation (Accounting Entries, Exhibit N-1).

Filed Date: 3/2/17.

Accession Number: 20170302-5153.

Comments Due: 5 p.m. ET 3/23/17.

Take notice that the Commission received the following electric rate filings:

Docket Numbers: ER17-1095-000.

Applicants: PJM Interconnection, L.L.C.

Description: § 205(d) Rate Filing: Amendment to ISAs re: MAIT Integration into PJM to be effective 11/2/2009.

Filed Date: 3/3/17.

Accession Number: 20170303-5081.

Comments Due: 5 p.m. ET 3/24/17.

Docket Numbers: ER17-1096-000.

Applicants: PJM Interconnection, L.L.C.

Description: § 205(d) Rate Filing: Amendment to Service Agreements re: MAIT Integration into PJM to be effective 2/28/2007.

Filed Date: 3/3/17.

Accession Number: 20170303-5089.

Comments Due: 5 p.m. ET 3/24/17.

Docket Numbers: ER17-1097-000.

Applicants: PJM Interconnection, L.L.C.

Description: § 205(d) Rate Filing: Original Service Agreement No. 4652, Queue No. AB1-152 to be effective 2/1/2017.

Filed Date: 3/3/17.

Accession Number: 20170303-5090.

Comments Due: 5 p.m. ET 3/24/17.

Docket Numbers: ER17-1098-000.

Applicants: Southwest Power Pool, Inc.

Description: § 205(d) Rate Filing: Tariff Revisions to Implement Resource Adequacy Requirement to be effective 6/1/2017.

Filed Date: 3/3/17.

Accession Number: 20170303-5091.

Comments Due: 5 p.m. ET 3/24/17.

Docket Numbers: ER17-1099-000.

Applicants: Arizona Public Service Company.

Description: § 205(d) Rate Filing: Formula Rate Protocol Modification to be effective 5/1/2017.

Filed Date: 3/3/17.

Accession Number: 20170303-5093.

Comments Due: 5 p.m. ET 3/24/17.

Docket Numbers: ER17-1100-000.

Applicants: Cube Yadkin Transmission LLC.

Description: Baseline eTariff Filing: Open Access Transmission Tariff Baseline to be effective 3/4/2017.

Filed Date: 3/3/17.

Accession Number: 20170303-5121.

Comments Due: 5 p.m. ET 3/24/17.

Docket Numbers: ER17-1101-000.

Applicants: Alcoa Power Generating Inc.

Description: Tariff Cancellation: Notice of Cancellation of Yadkin OATT to be effective 3/4/2017.

Filed Date: 3/3/17.

Accession Number: 20170303-5122.

Comments Due: 5 p.m. ET 3/24/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 3, 2017.
Nathaniel J. Davis, Sr.,
Deputy Secretary.

[FR Doc. 2017-04639 Filed 3-8-17; 8:45 am]

BILLING CODE 6717-01-P